DEPARTMENT OF TRANSPORTATION

Federal Highway Administration

Notice of Final Federal Agency Actions on Proposed Highway in Minnesota

AGENCY: Federal Highway Administration (FHWA), DOT.

ACTION: Notice of statute of limitations on claims for judicial review of actions by FHWA and other federal agencies.

SUMMARY: This notice announces actions taken by the FHWA and other Federal agencies that are final within the meaning of 23 U.S.C. 139(l)(1). The actions relate to a proposed highway project on I-90 over the Mississippi River. The proposed project includes replacement of the Interstate 90 (I-90) Dresbach Bridge over the Mississippi River with a new bridge that meets structural and geometric standards as well as reconstruction of the I-90/U.S. 61 interchange to improve traffic safety, capacity, and access on and between U.S. 61/14 and I-90. Those actions grant approvals for the project.

DATES: By this notice, the FHWA is advising the public of final agency actions subject to 23 U.S.C. 139(l)(1). A claim seeking judicial review of the Federal agency actions of the proposed highway project will be barred unless the claim is filed within 180 days from the date this notice is published in the Federal Register. If the Federal law that authorizes judicial review of a claim provides a time period of less than 180 days for filing such a claim, than that shorter time period still applies.

FOR FURTHER INFORMATION CONTACT: For FHWA: Mr. Philip Forst, Environmental Specialist, Federal Highway Administration, 380 Jackson Street, Suite 500, Saint Paul, MN 55101, Telephone (651) 291-6100, email: phil.forst@dot.gov. The Minnesota Division Office's normal business hours are 8 a.m. to 4 p.m. (Central Time). For the Minnesota Department of Transportation (MnDOT): Mr. Jai Kalsy, PE, Project Manager, District 6, 2900 48th Street NW., Rochester, MN 55901-5848, Telephone: (507) 286-7500, Email: jai.kalsy@state.mn.us. The MnDOT District 6 normal business hours are 8 a.m. to 4 p.m. (Central Time).

SUPPLEMENTARY INFORMATION: Notice is hereby given that the FHWA and other Federal agencies have take final agency actions by issuing approvals for the following highway project in Minnesota: I-90 Bridge over the Mississippi River and I-90/U.S. 14/U.S. 61 approach roadway interchange. The project is located in Dresbach Township, Winona County, Minnesota, and Campbell Township, La Crosse County, Wisconsin. The project's Web site is at http://www.dot.state.mn.us/d6/projects/dresbachbridge/index.html. A Finding of No Significant Impact (FONSI) for this project was signed by FHWA on August 27, 2012.

This notice applies to all Federal agency decisions as of the issuance date of this notice and all laws under which such actions were taken, including but not limited to:

1. General: National Environmental Policy Act (NEPA) [42 U.S.C. 4321-4351]; Federal-Aid Highway Act [23 U.S.C. 109]

2. Land: Section 4(f) of the Department of Transportation Act of 1966 [49 U.S.C. 303]

3. Wildlife: Endangered Species Act [16 U.S.C. 1531-1544 and Section 1536]; Fish and Wildlife Coordination Act [15 U.S.C. 661-667(d)]; Migratory Bird Treaty Act [16 U.S.C. 703-712].

4. Historic and Cultural Resources: Section 106 of the National Historic Preservation Act of 1966, as amended [16 U.S.C. 470(f) et seq.]; Archaeological and Historic Preservation Act [16 U.S.C. 469-469(c)]

5. Executive Orders: E.O. 11990, Protection of Wetlands; E.O. 11988, Floodplain Management; E.O. 12898, Federal Actions to Address Environmental Justice in Minority and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species

(Catalog of Federal Domestic Assistance Program Number 20.205, Highway Planning and Construction. The regulations implementing Executive Order 12372 regarding intergovernmental consultation on Federal programs and activities apply to this program.)

Authority: 23 U.S.C. 139(l)(1).

Issued on: September 4, 2012.
Derrell Turner,
Division Administrator, Federal Highway Administration, Saint Paul, Minnesota.

[FR Doc. 2012-23502 Filed 9-21-12; 8:45 am]

BILLING CODE P